DEPARTMENT OF DEFENSE

Corps of Engineers, Department of the Army

Notice of availability for the Draft Environmental Impact Statement for the San Juan Creek Watershed/Western San Mateo Creek Watershed Special Area Management Plan (SAMP), Orange County, CA

AGENCY: Department of Defense, Department of the Army, Corps of Engineers, Los Angeles District Regulatory Branch.

ACTION: Notice of availability for a Draft EIS.

SUMMARY: The U.S. Army Corps of Engineers, Regulatory Branch has completed a Draft EIS for the San Juan Creek Watershed/Western San Mateo Creek Watershed Special Area Management Plan (SAMP). The San Juan Creek Watershed/Western San Mateo Creek Watershed SAMP establishes three alternative permitting procedures that balance aquatic resource protection and reasonable economic development for the San Juan Creek Watershed and Western San Mateo Creed Watershed.

DATES: Written comments received by January 16, 2006, will be considered by the Corps in decision making for the Final EIS. The public hearing for the Draft EIS will be held on December 6, 2005 at the City of San Juan Capistrano Center Community Center at 25925 Camino del Avion, San Juan Capistrano.

FOR FURTHER INFORMATION CONTACT: Mr. Jae Chung, Project Manager, Regulatory Branch, U.S. Army Corps of Engineers, P.O. Box 532711, Los Angeles, California 90053-2325, (213) 452-3292, yong.j.chung@usace.army.mil.

SUPPLEMENTARY INFORMATION: Under section 404 of the Clean Water Act, the Corps is authorized to issue permits for activities that discharge dredged and/or fill materials into waters of the U.S., including wetlands, for roads, developments, utilities, and other activities. For the San Juan Creek and Western San Mateo Creek Watersheds, the Corps is proposing a watershed-based SAMP to balance aquatic resource protection and reasonable economic development. The SAMP is an improvement over the current incremental case-by-case approach, which does a less effective job of taking a watershed perspective of aquatic resources and considering the needs of future permit applicants. The SAMP involves characterizing aquatic resource conditions and processes through the watershed, establishing alternative permitting procedures more appropriate for the given aquatic resources in the watershed, and developing a coordinated aquatic resources management framework.

The Draft EIS is available to the public at the reference desks at the following local libraries: Mission Viejo Library, 100 Civic Center, Mission Viejo, CA 92691; San Clemente Library, 242 Avenida Del Mar, San Clemente, CA 92672; Laguna Hills Library, 25555 Alicia Parkway, Laguna Hills, CA 92653; Laguna Niguel Library, 30341 Crown Valley Parkway, Laguna Niguel, CA 92656; San Juan Capistrano Library, 31495 El Camino Real, San Juan Capistrano, CA 92675; Rancho Santa Margarita Library, 30902 La Promesa, Rancho Santa Margarita, CA 92688; and Dana Point Library, 33841 Niguel Road, Laguna Niguel, CA 92656. Information on obtaining electronic copies of the Draft EIS is available by phoning or mailing the contact person or by visiting http://www.spl.usace.army.mil/samp/sanjuancreeksamp.htm.

Alex C. Dornstauder,
Colonel, US Army, District Engineer.

[FR Doc. 05-22718 Filed 11-15-05; 8:45 am]

BILLING CODE 3710-92-M